DEPARTMENT OF COMMERCE

International Trade Administration

[A-580-809]

Circular Welded Non-Alloy Steel Pipe from the Republic of Korea: Rescission of Antidumping Duty New Shipper Review

AGENCY: Import Administration, International Trade Administration, Department of Commerce.

SUMMARY: In response to a request from A-JU Besteel Co., Ltd. (“Ajubesteel”), the Department of Commerce (“the Department”) initiated a new shipper review of the antidumping duty order on circular welded non-alloy steel pipe from the Republic of Korea covering the period November 1, 2007, through October 31, 2008. On January 13, 2009, Ajubesteel withdrew its request; therefore, we are rescinding this new shipper review.

EFFECTIVE DATES: February 23, 2009.

FOR FURTHER INFORMATION CONTACT: Joseph Shuler or Dave Neubacher, Office of AD/CVD Operations 1, Import Administration, International Trade Administration, U.S. Department of Commerce, 14th Street and Constitution Avenue, N.W., Washington, DC 20230; telephone: (202) 482-1293 and (202) 482-5823, respectively.

SUPPLEMENTARY INFORMATION:

Background

The Department received a timely request from Ajubesteel, in accordance with section 751(a)(2)(B)(i) of the Tariff Act of 1930, as amended (“the Act”), and 19 CFR 351.214(c), for a new shipper review of the antidumping duty order on circular welded non-alloy steel pipe from the Republic of Korea. The Department found that Ajubesteel's request for review met all of the regulatory requirements set forth in 19 CFR 351.214(b) and initiated an antidumping duty new shipper review. See Circular Welded Non-Alloy Steel Pipe from the Republic of Korea: Initiation of New Shipper Antidumping Duty Review, 73 FR 80365 (December 31, 2008).

On January 6, 2009, the Department issued a questionnaire to Ajubesteel. On January 13, 2009, Ajubesteel withdrew its request for a new shipper review.

Rescission of New Shipper Review

Section 351.214(f)(1) of the Department's regulations provides that the Department may rescind a new shipper review if the party that requested the review withdraws its request for review within 60 days of the date of publication of the notice of initiation of the requested review. Ajubesteel withdrew its request for a review on January 13, 2009, which is within the 60-day deadline. Therefore, the Department is rescinding this new shipper review of Ajubesteel.

Notification

As the Department is rescinding this antidumping duty new shipper review, normally, the all-others rate in effect at the time of entry, 4.8 percent ad valorem, would be assessed on all exports of circular welded non-alloy steel pipe from the Republic of Korea by Ajubesteel entered, or withdrawn, from warehouse for consumption during the period of review (November 1, 2007, through October 31, 2008). However, Ajubesteel's shipments are subject to an administrative review of the order on circular welded non-alloy steel pipe from the Republic of Korea, covering the same period. See Initiation of Antidumping and Countervailing Duty Administrative Reviews and Request for Revocation in Part, 73 FR 79055 (December 24, 2008). Because the sale(s) from this new shipper review also fall within the period of review of the administrative review, the Department will not issue assessment instructions to U.S. Customs and Border Protection (CBP) at this time. Upon the completion of the November 1, 2007, through October 31, 2008, administrative review, the Department will issue assessment instructions to CBP as appropriate.

This notice also serves as the only reminder to parties subject to administrative protective orders (“APO”) of their responsibility concerning the disposition of proprietary information disclosed under APO in accordance with 19 CFR 351.305(a)(3). Timely written notification of the return/destruction of APO material or conversion to judicial protective order is hereby requested. Failure to comply with the regulations and terms of an APO is a violation which is subject to sanctions.

This new shipper rescission and notice are published in accordance with sections 751(a)(2)(B) and 777(i)(1) of the Act.

Dated: February 12, 2009.
John M. Andersen,
Acting Deputy Assistant Secretary for Antidumping and Countervailing Operations.

[FR Doc. E9-3656 Filed 2-20-09; 8:45 am]

BILLING CODE 3510-DS-S